DEPARTMENT OF AGRICULTURE

Forest Service

Bridger-Teton National Forest; Pinedale Ranger District; WY; Environmental Impact Statement for the Upper Green River Area Rangeland Project

AGENCY: Forest Service, USDA.

ACTION: Notice of intent to prepare an environmental impact statement.

SUMMARY: The Department of Agriculture, Forest Service, will prepare an Environmental Impact Statement (EIS) to analyze the effects of domestic livestock grazing in the upper Green River area. The analysis contained in the EIS will be used by the Responsible Official to decide whether or not, and how, livestock grazing would be authorized on the grazing allotments within the project area. The project area is located in western Wyoming; approximately 30 miles northwest of Pinedale, Wyoming near the Green River Lakes. The majority of the project area lies within Sublette County, with small portions that extend into Teton and Fremont counties. The entire 162,800 acre project area lies within the boundaries of the Pinedale Ranger District. The project area is comprised on the following six grazing allotments: Badger Creek, Beaver-Twin Creeks, Noble Pastures, Roaring Fork, Upper Green River, and Wagon Creek.

DATES: Comments concerning the scope of the analysis must be received by August 25, 2003. The draft environmental impact statement is expected in September of 2003 and the final environmental impact statement is expected in January of 2004.

ADDRESSES: Send written comments to Craig Turlock, District Ranger, Pinedale Ranger District, Box 220, Pinedale, Wyoming 82941. For further information, mail correspondence to mailroom r4 bridger teton@fs.fed.us and on the subject line, put only “Upper Green Grazing Allotments”.

FOR FURTHER INFORMATION CONTACT: Craig Turlock, District Ranger, Pinedale Ranger District, (see ADDRESSES above).

SUPPLEMENTARY INFORMATION:

Purpose and Need for Action

The purpose of this analysis is to determine if livestock grazing is appropriate within the analysis area. If livestock grazing is appropriate, there may be a need to update and/or refine desired rangeland conditions and develop new management prescriptions to meet them. Integral to this is a need to confirm or attain compliance and consistency of this analysis and its resultant decision with legal mandates, including the National Environmental Policy Act of 1976 (NEPA), as well as policy direction, including the Bridger-Teton National Forest Land and Resource Management Plan (Forest Plan). To date the Forest Service has identified three alternatives.

Alternative B: Proposed Action

The Forest Service proposes to authorize grazing use within the project area under updated grazing management direction, in order to move existing rangeland resource conditions toward the desired conditions that will be developed by an interdisciplinary team. The updated direction would be incorporated in respective allotment management plans (AMP's) to guide grazing management within the project area. New Allotment Management Plans (AMP's) would be developed for the Badger Creek, Beaver-Twin Creeks, Noble Pastures, and Wagon Creek allotments, and the existing AMP's for the Roaring Fork and Upper Green River allotments would be updated as a result of this action. Grazing management strategies would be developed or revised in accordance with the Code of Federal Regulations (CFR), 36 CFR 222.1(b)(2), which describes allotment management planning provisions. Current grazing management strategies would be maintained where resource objectives are being achieved, and new management strategies would be implemented in areas where resource objectives have not been met. Rotational grazing systems would be initiated in the Badger Creek, Beaver-Twin Creeks, and Roaring Fork allotments and modified, as needed, in the remaining allotments to ensure desired conditions are reached.

Possible Alternatives

Alternative A—Grazing as Currently Permitted (No Action Alternative)

Although allotment management plans (AMP's) would be prepared for each of the six allotments, the grazing management practices specified for the allotments with existing AMP's would not be changed. The Upper Green River and Roaring Fork allotments would continue to operate under the guidelines specified in AMP's that are over 25 years old, and season-long grazing would persist in the Badger Creek and Beaver-Twin Creeks allotments. In addition, no new utilization standards would be initiated to move existing resource conditions in the project area toward the desired future conditions (DFC's) specified in the Forest Plan.

Alternative C—No Grazing by Domestic Livestock (No Grazing Alternative)

Alternative C would eliminate livestock grazing in the project area. This alternative was developed to demonstrate the effects that eliminating domestic cattle grazing would have on the environment and to more clearly illustrate the potential effects of implementing either Alternative A or Alternative B. Under this alternative, domestic livestock grazing in all six allotments of the project area would be phased out over several years as existing Term Grazing Permits expire.

Responsible Official

Craig Trulock, District Ranger, Pinedale Ranger District, PO Box 220, Pinedale, Wyoming 82941.

Nature of Decision To Be Made

The decision, which is based on this analysis, will be to decide if livestock will be allowed to graze on the allotment complex, either through the implementation of the proposed action, or an alternative to the proposed action. The decision would include any mitigation measures needed in addition to those prescribed in the Forest Plan.

Scoping Process

The following methods were used to invite the public to participate in this project: A scoping letter was mailed to those listed on the Bridger-Teton National Forest's general mailing list on February 10, 2000. The mailing list included private landowners, term grazing permit holders, special interest groups, interested members of the public, and local, state, and federal agencies. The letter described the proposed action, the purpose and need for the project, the process that would be followed for completing the environmental analysis, and the scope of the decision to be made. Additionally, the letter solicited public participation in the process, specifically the submission of comments, concerns, and recommendations regarding management of the six allotments in the project area.

Term grazing permit holders, or their representatives, were contacted shortly after the project was initiated to solicit their input concerning management of the six allotments within the project area.

The Forest Service is seeking information, comments, and assistance from individuals, organizations, tribal governments, and federal, state, and local agencies interested in or affected by this project. Comments submitted on the 2000 scoping effort and any new comments will be used to prepare the Draft Environmental Impact Statement (DEIS). Public participation will be solicited by notifying in person and/or by mail known interested and affected publics. News releases will be used to give the public general notice. Public participation activities would include requests for written comments. Scoping includes: (1) Identifying potential issues, (2) narrowing the potential issues and identifying significant issues of those that have been covered by prior environmental review, (3) exploring alternatives in addition to No Action, and (4) identifying potential environmental effects of the proposed action and alternatives.

Preliminary Issues

The Forest Service has identified the following potential issues. Through the 2000 scoping effort, issues have been refined. Public input is especially valuable here. It will help us determine which of these merit detailed analysis. It will also help identify additional issues related to the proposed action that may not be listed here.

Issue 1—Effects of livestock grazing on riparian and aquatic function.

Issue 2—Effects of livestock grazing on Threatened, Endangered and Sensitive species.

Issue 3—The social and economic effects of authorizing livestock grazing in the area.

Issue 4—Effects of livestock grazing on rangeland function.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions, Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 11, 2003
Craig P. Trulock,
District Ranger.

[FR Doc. 03-18685 Filed 7-22-03; 8:45 am]

BILLING CODE 3410-11-M